DEPARTMENT OF ENERGY

Federal Energy Regulatory Commission

[Project No. 2390-056]

Northern States Power Company of Wisconsin, d/b/a Excel Energy Inc.; Notice of Availability of Environmental Assessment

October 8, 2008.

In accordance with the National Environmental Policy Act of 1969, as amended, and the Federal Energy Regulatory Commission's (Commission) regulations (18 CFR Part 380), the Office of Energy Projects has reviewed an application for amendment of license and has prepared an environmental assessment (EA) regarding the licensee's request to amend the project license to include the jurisdictional Turtle-Flambeau Storage Reservoir as a project feature of the Big Falls Project. The Big Falls Project is located on the Flambeau River in Rusk County, Wisconsin. This EA concludes that the proposed action, with recommended measures, would not constitute a major Federal action significantly affecting the quality of the human environment.

Copies of the EA are available in the Public Reference Room of the Commission's offices at 888 First Street, NE., Room 1-A, Washington, DC 204265. The EA also may be viewed on the Commission's Internet Web si te (http://www.ferc.gov) using the “eLibrary” link. Enter the docket number “P-2390” in the docket number field to access the document. For assistance with eLibrary, contact FERCOnlineSupport@ferc.gov or call toll-free at (866) 208-3372, or for TTY contact (202) 502-8659.

For further information regarding this notice, please contact CarLisa Linton at (202) 502-8416.

Kimberly D. Bose,
Secretary.

[FR Doc. E8-24490 Filed 10-15-08; 8:45 am]

BILLING CODE 6717-01-P